DEPARTMENT OF HOMELAND SECURITY

Coast Guard

33 CFR Part 117

[Docket No. USCG-2014-0977]

Drawbridge Operation Regulation; Snohomish River, Everett, WA

AGENCY: Coast Guard, DHS.

ACTION: Notice of deviation from drawbridge regulation.

SUMMARY: The Coast Guard has issued a temporary deviation from the operating schedule that governs the Washington State Route 529 (SR 529) twin bridge south bound across the Snohomish River, mile 3.6, at Everett, WA. The deviation is necessary to facilitate adjustment of newly installed bridge joints. This deviation allows the bridges to remain in the closed position during adjustment and maintenance activities.

DATES: This deviation is effective from 8 a.m. on January 10, 2015 to 11 p.m. on February 15, 2015.

ADDRESSES: The docket for this deviation, [USCG-2014-0977] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Steven M. Fischer, Bridge Administrator, Thirteenth Coast Guard District; telephone 206-220-7282, email d13-pf-d13bridges@uscg.mil. If you have questions on viewing the docket, call Cheryl Collins, Program Manager, Docket Operations, telephone 202-366-9826.

SUPPLEMENTARY INFORMATION: The Washington State Department of Transportation (WSDOT) has requested a temporary deviation from the operating schedule for the SR 529 Twin Bridges south bound, mile 3.6, crossing the Snohomish River at Everett, WA. The requested deviation is to accommodate adjustments on bridge joints. To facilitate this bridge work, the bridge will be maintained in the closed-to-navigation position, and need not open for vessel traffic for two periods of up to two weeks each. The closed-to-navigation period will begin at 8 a.m. on January 10, 2015 until 11 p.m. on February 15, 2015. During the 5 week period there will be one week when the bridge will be able to accommodate mariner traffic; the exact dates are to be determined at a later date and will be communicated to the marine community via the local notice to mariners and through direct notification to known waterway users via WDSOT. Vessels that require an opening during this one week period, will need to schedule an opening twenty four hours in advance by marine radio or telephone.

The SR 529 Twin Bridges, mile 3.6, crossing the Snohomish River provides 38 feet of vertical clearance above mean high water elevation while in the closed position. The SR 529 Twin Bridges crossing the Snohomish River normally operate in accordance with 33 CFR 117.1059(c) which requires advance notification of one-hour when a bridge opening is needed. Waterway usage on the Snohomish River ranges from commercial tugs to small pleasure craft. Vessels able to pass through the bridge in the closed positions may do so at anytime. The bridge will not be able to open for emergencies and there is no immediate alternate route for vessels to pass. The Coast Guard will also inform the users of the waterways through our Local Broadcast Notice to Mariners of the change in the operating schedule for the bridge so that vessels can arrange their transits to minimize any impact caused by this temporary deviation.

In accordance with 33 CFR 117.35(e), the drawbridge must return to its regular operating schedule immediately at the end of the designated time period. This deviation from the operating regulations is authorized under 33 CFR 117.35.

Dated: October 31, 2014.
Steven M. Fischer,
Bridge Administrator, Thirteenth Coast Guard District.

[FR Doc. 2014-27175 Filed 11-14-14; 8:45 am]

BILLING CODE 9110-04-P